POSTAL REGULATORY COMMISSION

39 CFR Part 3020

[Docket Nos. MC2010-21 and CP2010-36]

Update to Product List

AGENCY: Postal Regulatory Commission.

ACTION: Final rule.

SUMMARY: The Commission is updating the competitive product list. This action reflects a publication policy adopted by Commission order. The referenced policy assumes periodic updates. The updates are identified in the body of this document. The competitive product list, which is re-published in its entirety, includes these updates.

DATES: Effective Date: February 24, 2020. For applicability dates, see SUPPLEMENTARY INFORMATION.

FOR FURTHER INFORMATION CONTACT: David A. Trissell, General Counsel, at 202-789-6800.

SUPPLEMENTARY INFORMATION: Applicability Dates: October 2, 2019, First-Class Package Service Contract 103 (MC2019-202 and CP2019-225); October 4, 2019, Priority Mail Express & Priority Mail Contract 99 (MC2019-204 and CP2019-226); October 4, 2019, Priority Mail Contract 552 (MC2019-205 and CP2019-227); October 7, 2019, First-Class Package Service Contract 104 (MC2019-206 and CP2019-228); October 16, 2019, Priority Mail & First-Class Package Service Contract 120 (MC2020-3 and CP2020-3); October 16, 2019, Priority Mail & First-Class Package Service Contract 119 (MC2020-2 and CP2020-2); October 16, 2019, Priority Mail & First-Class Package Service Contract 121 (MC2020-4 and CP2020-4); October 21, 2019, Priority Mail Contract 553 (MC2020-5 and CP2020-6); October 22, 2019, Priority Mail & First-Class Package Service Contract 122 (MC2020-6 and CP2020-7); October 22, 2019, Priority Mail & First-Class Package Service Contract 123 (MC2020-9 and CP2020-8); October 23, 2019, Priority Mail Express & Priority Mail Contract 100 (MC2020-1 and CP2020-1); October 24, 2019, First-Class Package Service Contract 105 (MC2020-10 and CP2020-9); November 1, 2019, Priority Mail Express & Priority Mail Contract 101 (MC2020-11 and CP2020-10); November 1, 2019, Priority Mail & First-Class Package Service Contract 124 (MC2020-12 and CP2020-11); November 4, 2019, Priority Mail Contract 554 (MC2020-13 and CP2020-12); November 4, 2019, Priority Mail Contract 556 (MC2020-15 and CP2020-14); November 4, 2019, Priority Mail Contract 555 (MC2020-14 and CP2020-13); November 6, 2019, Priority Mail Express, Priority Mail & First-Class Package Service Contract 67 (MC2020-16 and CP2020-15); November 12, 2019, Priority Mail Express & Priority Mail Contract 102 (MC2020-17 and CP2020-16); November 12, 2019, Priority Mail Contract 557 (MC2020-18 and CP2020-17); November 13, 2019, Priority Mail Express & Priority Mail Contract 103 (MC2020-19 and CP2020-18); November 18, 2019, Priority Mail & First-Class Package Service Contract 125 (MC2020-21 and CP2020-20); November 18, 2019, Priority Mail Contract 559 (MC2020-22 and CP2020-21); November 19, 2019, Priority Mail Contract 558 (MC2020-20 and CP2020-19); November 19, 2019, Priority Mail & First-Class Package Service Contract 126 (MC2020-23 and CP2020-22); November 19, 2019, Priority Mail & First-Class Package Service Contract 127 (MC2020-24 and CP2020-23); November 22, 2019, Priority Mail Express & Priority Mail Contract 104 (MC2020-25 and CP2020-24); November 22, 2019, Priority Mail Contract 560 (MC2020-26 and CP2020-25); November 26, 2019, Priority Mail Contract 561 (MC2020-28 and CP2020-26); November 27, 2019, Priority Mail & First-Class Package Service Contract 128 (MC2020-29 and CP2020-27); November 27, 2019, Parcel Select Contract 35 (MC2020-30 and CP2020-28); November 27, 2019, Priority Mail Contract 562 (MC2020-31 and CP2020-29); December 2, 2019, Priority Mail Contract 563 (MC2020-32 and CP2020-30); December 2, 2019, Priority Mail Express & Priority Mail Contract 105 (MC2020-33 and CP2020-31); December 3, 2019, Priority Mail Contract 564 (MC2020-34 and CP2020-32); December 4, 2019, Priority Mail Contract 565 (MC2020-35 and CP2020-33); December 4, 2019, Priority Mail Express & Priority Mail Contract 106 (MC2020-36 and CP2020-34); December 6, 2019, Priority Mail & First-Class Package Service Contract 129 (MC2020-37 and CP2020-35); December 6, 2019, Priority Mail Contract 566 (MC2020-39 and CP2020-37); December 10, 2019, Priority Mail & First-Class Package Service Contract 131 (MC2020-40 and CP2020-38); December 10, 2019, Priority Mail & First-Class Package Service Contract 132 (MC2020-41 and CP2020-39); December 11, 2019, Priority Mail Contract 567 (MC2020-43 and CP2020-41); December 12, 2019, Priority Mail Express Contract 79 (MC2020-44 and CP2020-42); December 12, 2019, Priority Mail & First-Class Package Service Contract 130 (MC2020-38 and CP2020-36); December 13, 2019, Priority Mail Contract 568 (MC2020-45 and CP2020-43); December 13, 2019, Priority Mail & First-Class Package Service Contract 133 (MC2020-42 and CP2020-40); December 13, 2019, Priority Mail Contract 569 (MC2020-46 and CP2020-44); December 17, 2019, Priority Mail & First-Class Package Service Contract 134 (MC2020-47 and CP2020-45); December 17, 2019, Priority Mail & First-Class Package Service Contract 135 (MC2020-48 and CP2020-46); December 17, 2019, Priority Mail Contract 571 (MC2020-50 and CP2020-48); December 17, 2019, Priority Mail & First-Class Package Service Contract 136 (MC2020-51 and CP2020-49); December 17, 2019, Priority Mail Contract 572 (MC2020-52 and CP2020-50); December 18, 2019, Priority Mail Contract 570 (MC2020-49 and CP2020-47); December 18, 2019, Priority Mail Contract 573 (MC2020-53 and CP2020-51); December 18, 2019, Priority Mail & First-Class Package Service Contract 137 (MC2020-54 and CP2020-52); December 18, 2019, Priority Mail Express & Priority Mail Contract 108 (MC2020-56 and CP2020-54); December 18, 2019, Priority Mail Contract 574 (MC2020-57 and CP2020-55); December 18, 2019, Priority Mail & First-Class Package Service Contract 138 (MC2020-58 and CP2020-56); December 19, 2019, Priority Mail Contract 576 (MC2020-60 and CP2020-58); December 19, 2019, Priority Mail Express & Priority Mail Contract 109 (MC2020-61 and CP2020-59); December 19, 2019, Priority Mail Contract 577 (MC2020-62 and CP2020-60); December 19, 2019, Priority Mail Contract 578 (MC2020-63 and CP2020-62); December 19, 2019, Priority Mail Contract 579 (MC2020-64 and CP2020-63); December 19, 2019, Priority Mail Contract 580 (MC2020-65 and CP2020-64); December 23, 2019, Priority Mail Express & Priority Mail Contract 107 (MC2020-55 and CP2020-53); December 23, 2019, Priority Mail Contract 575 (MC2020-59 and CP2020-57); December 23, 2019, Priority Mail Contract 581 (MC2020-66 and CP2020-65); December 23, 2019, Priority Mail Express Contract 80 (MC2020-67 and CP2020-66); December 23, 2019, Parcel Select Contract 36 (MC2020-68 and CP2020-67); December 23, 2019, Priority Mail Contract 582 (MC2020-69 and CP2020-68); December 30, 2019, Priority Mail Express, Priority Mail, First-Class Package Service & Parcel Select Contract 1 (MC2020-74 and CP2020-73); December 30, 2019, Priority Mail Express, Priority Mail, First-Class Package Service & Parcel Select Contract 2 (MC2020-75 and CP2020-74); December 30, 2019, Priority Mail Express, Priority Mail, First-Class Package Service & Parcel Select Contract 3 (MC2020-76 and CP2020-75).

This document identifies updates to the competitive product list, which appears as 39 CFR Appendix B to Subpart A of Part 3020—Competitive Product List. Publication of the updated product lists in the Federal Register is addressed in the Postal Accountability and Enhancement Act (PAEA) of 2006.

Authorization. The Commission process for periodic publication of updates was established in Docket Nos. MC2010-21 and CP2010-36, Order No. 445, April 22, 2010, at 8.

Changes. The competitive product list is being updated by publishing a replacement in its entirety of 39 CFR Appendix B to Subpart A of Part 3020—Competitive Product List. The following products are being added, removed, or moved within the competitive product list:

Competitive Product List

1. First-Class Package Service Contract 103 (MC2019-202 and CP2019-225) (Order No. 5263), added October 2, 2019.

2. Priority Mail Express & Priority Mail Contract 99 (MC2019-204 and CP2019-226) (Order No. 5265), added October 4, 2019.

3. Priority Mail Contract 552 (MC2019-205 and CP2019-227) (Order No. 5267), added October 4, 2019.

4. First-Class Package Service Contract 104 (MC2019-206 and CP2019-228) (Order No. 5268), added October 7, 2019.

5. Priority Mail & First-Class Package Service Contract 120 (MC2020-3 and CP2020-3) (Order No. 5275), added October 16, 2019.

6. Priority Mail & First-Class Package Service Contract 119 (MC2020-2 and CP2020-2) (Order No. 5276), added October 16, 2019.

7. Priority Mail & First-Class Package Service Contract 121 (MC2020-4 and CP2020-4) (Order No. 5277), added October 16, 2019.

8. Priority Mail Contract 553 (MC2020-5 and CP2020-6) (Order No. 5279), added October 21, 2019.

9. Priority Mail & First-Class Package Service Contract 122 (MC2020-6 and CP2020-7) (Order No. 5281), added October 22, 2019.

10. Priority Mail & First-Class Package Service Contract 123 (MC2020-9 and CP2020-8) (Order No. 5282), added October 22, 2019.

11. Priority Mail Express & Priority Mail Contract 100 (MC2020-1 and CP2020-1) (Order No. 5284), added October 23, 2019.

12. First-Class Package Service Contract 105 (MC2020-10 and CP2020-9) (Order No. 5286), added October 24, 2019.

13. Priority Mail Express & Priority Mail Contract 101 (MC2020-11 and CP2020-10) (Order No. 5289), added November 1, 2019.

14. Priority Mail & First-Class Package Service Contract 124 (MC2020-12 and CP2020-11) (Order No. 5290), added November 1, 2019.

15. Priority Mail Contract 554 (MC2020-13 and CP2020-12) (Order No. 5292), added November 4, 2019.

16. Priority Mail Contract 556 (MC2020-15 and CP2020-14) (Order No. 5293), added November 4, 2019.

17. Priority Mail Contract 555 (MC2020-14 and CP2020-13) (Order No. 5294), added November 4, 2019.

18. Priority Mail Express, Priority Mail & First-Class Package Service Contract 67 (MC2020-16 and CP2020-15) (Order No. 5296), added November 6, 2019.

19. Priority Mail Express & Priority Mail Contract 102 (MC2020-17 and CP2020-16) (Order No. 5300), added November 12, 2019.

20. Priority Mail Contract 557 (MC2020-18 and CP2020-17) (Order No. 5301), added November 12, 2019.

21. Priority Mail Express & Priority Mail Contract 103 (MC2020-19 and CP2020-18) (Order No. 5304), added November 13, 2019.

22. Priority Mail & First-Class Package Service Contract 125 (MC2020-21 and CP2020-20) (Order No. 5310), added November 18, 2019.

23. Priority Mail Contract 559 (MC2020-22 and CP2020-21) (Order No. 5311), added November 18, 2019.

24. Priority Mail Contract 558 (MC2020-20 and CP2020-19) (Order No. 5315), added November 19, 2019.

25. Priority Mail & First-Class Package Service Contract 126 (MC2020-23 and CP2020-22) (Order No. 5316), added November 19, 2019.

26. Priority Mail & First-Class Package Service Contract 127 (MC2020-24 and CP2020-23) (Order No. 5317), added November 19, 2019.

27. Priority Mail Express & Priority Mail Contract 104 (MC2020-25 and CP2020-24) (Order No. 5319), added November 22, 2019.

28. Priority Mail Contract 560 (MC2020-26 and CP2020-25) (Order No. 5320), added November 22, 2019.

29. Priority Mail Contract 561 (MC2020-28 and CP2020-26) (Order No. 5322), added November 26, 2019.

30. Priority Mail & First-Class Package Service Contract 128 (MC2020-29 and CP2020-27) (Order No. 5324), added November 27, 2019.

31. Parcel Select Contract 35 (MC2020-30 and CP2020-28) (Order No. 5325), added November 27, 2019.

32. Priority Mail Contract 562 (MC2020-21 and CP2020-29) (Order No. 5326), added November 27, 2019.

33. Priority Mail Contract 563 (MC2020-32 and CP2020-30) (Order No. 5328), added December 2, 2019.

34. Priority Mail Express & Priority Mail Contract 105 (MC2020-33 and CP2020-31) (Order No. 5329), added December 2, 2019.

35. Priority Mail Contract 564 (MC2020-34 and CP2020-32) (Order No. 5330), added December 3, 2019.

36. Priority Mail Contract 565 (MC2020-35 and CP2020-33) (Order No. 5333), added December 4, 2019.

37. Priority Mail Express & Priority Mail Contract 106 (MC2020-36 and CP2020-34) (Order No. 5334), added December 4, 2019.

38. Priority Mail & First-Class Package Service Contract 129 (MC2020-37 and CP2020-35) (Order No. 5338), added December 6, 2019.

39. Priority Mail Contract 566 (MC2020-39 and CP2020-37) (Order No. 5339), added December 6, 2019.

40. Priority Mail & First-Class Package Service Contract 131 (MC2020-40 and CP2020-38) (Order No. 5341), added December 10, 2019.

41. Priority Mail & First-Class Package Service Contract 132 (MC2020-41 and CP2020-39) (Order No. 5342), added December 10, 2019.

42. Priority Mail Contract 567 (MC2020-43 and CP2020-41) (Order No. 5345), added December 11, 2019.

43. Priority Mail Express Contract 79 (MC2020-44 and CP2020-42) (Order No. 5346), added December 12, 2019.

44. Priority Mail & First-Class Package Service Contract 130 (MC2020-38 and CP2020-36) (Order No. 5347), added December 12, 2019.

45. Priority Mail Contract 568 (MC2020-45 and CP2020-43) (Order No. 5349), added December 13, 2019.

46. Priority Mail & First-Class Package Service Contract 133 (MC2020-42 and CP2020-40) (Order No. 5350), added December 13, 2019.

47. Priority Mail Contract 569 (MC2020-46 and CP2020-44) (Order No. 5352), added December 13, 2019.

48. Priority Mail & First-Class Package Service Contract 134 (MC2020-47 and CP2020-45) (Order No. 5355), added December 17, 2019.

49. Priority Mail & First-Class Package Service Contract 135 (MC2020-48 and CP2020-46) (Order No. 5356), added December 17, 2019.

50. Priority Mail Contract 571 (MC2020-50 and CP2020-48) (Order No. 5357), added December 17, 2019.

51. Priority Mail & First-Class Package Service Contract 136 (MC2020-51 and CP2020-49) (Order No. 5358), added December 17, 2019.

52. Priority Mail Contract 572 (MC2020-52 and CP2020-50) (Order No. 5359), added December 17, 2019.

53. Priority Mail Contract 570 (MC2020-49 and CP2020-47) (Order No. 5360), added December 18, 2019.

54. Priority Mail Contract 573 (MC2020-53 and CP2020-51) (Order No. 5361), added December 18, 2019.

55. Priority Mail & First-Class Package Service Contract 137 (MC2020-54 and CP2020-52) (Order No. 5362), added December 18, 2019.

56. Priority Mail Express & Priority Mail Contract 108 (MC2020-56 and CP2020-54) (Order No. 5363), added December 18, 2019.

57. Priority Mail Contract 574 (MC2020-57 and CP2020-55) (Order No. 5364), added December 18, 2019.

58. Priority Mail & First-Class Package Service Contract 138 (MC2020-58 and CP2020-56) (Order No. 5365), added December 18, 2019.

59. Priority Mail Contract 576 (MC2020-60 and CP2020-58) (Order No. 5366), added December 19, 2019.

60. Priority Mail Express & Priority Mail Contract 109 (MC2020-61 and CP2020-59) (Order No. 5367), added December 19, 2019.

61. Priority Mail Contract 577 (MC2020-62 and CP2020-60) (Order No. 5368), added December 19, 2019.

62. Priority Mail Contract 578 (MC2020-63 and CP2020-62) (Order No. 5369), added December 19, 2019.

63. Priority Mail Contract 579 (MC2020-64 and CP2020-63) (Order No. 5370), added December 19, 2019.

64. Priority Mail Contract 580 (MC2020-65 and CP2020-64) (Order No. 5371), added December 19, 2019.

65. Priority Mail Express & Priority Mail Contract 107 (MC2020-55 and CP2020-53) (Order No. 5375), added December 23, 2019.

66. Priority Mail Contract 575 (MC2020-59 and CP2020-57) (Order No. 5376), added December 23, 2019.

67. Priority Mail Contract 581 (MC2020-66 and CP2020-65) (Order No. 5377), added December 23, 2019.

68. Priority Mail Express Contract 80 (MC2020-67 and CP2020-66) (Order No. 5378), added December 23, 2019.

69. Parcel Select Contract 36 (MC2020-68 and CP2020-67) (Order No. 5379), added December 23, 2019.

70. Priority Mail Contract 582 (MC2020-69 and CP2020-68) (Order No. 5380), added December 23, 2019.

71. Priority Mail Express, Priority Mail, First-Class Package Service & Parcel Select Contract 1 (MC2020-74 and CP2020-73) (Order No. 5382), added December 30, 2019.

72. Priority Mail Express, Priority Mail, First-Class Package Service & Parcel Select Contract 2 (MC2020-75 and CP2020-74) (Order No. 5383), added December 30, 2019.

73. Priority Mail Express, Priority Mail, First-Class Package Service & Parcel Select Contract 3 (MC2020-76 and CP2020-75) (Order No. 5384), added December 30, 2019.

The following negotiated service agreements have expired, or have been terminated early, and are being deleted from the Competitive Product List:

1. Priority Mail Express & Priority Mail Contract 18 (MC2015-49 and CP2015-61) (Order No. 2480).

2. Parcel Select Contract 11 (MC2016-28 and CP2016-34) (Order No. 2883).

3. First-Class Package Service Contract 38 (MC2016-33 and CP2016-39) (Order No. 2910).

4. Priority Mail Express, Priority Mail & First-Class Package Service Contract 7 (MC2016-55 and CP2016-70) (Order No. 2983).

5. Priority Mail Express & Priority Mail Contract 27 (MC2016-59 and CP2016-74) (Order No. 2995).

6. Priority Mail & First-Class Package Service Contract 17 (MC2016-112 and CP2016-140) (Order No. 3219).

7. Priority Mail Express & Priority Mail Contract 29 (MC2016-120 and CP2016-150) (Order No. 3252).

8. Priority Mail Contract 207 (MC2016-122 and CP2016-155) (Order No. 3265).

9. Priority Mail Contract 208 (MC2016-123 and CP2016-156) (Order No. 3267).

10. Priority Mail Contract 210 (MC2016-125 and CP2016-159) (Order No. 3286).

11. Priority Mail & First-Class Package Service Contract 19 (MC2016-142 and CP2016-179) (Order No. 3342).

12. Priority Mail Contract 222 (MC2016-145 and CP2016-182) (Order No. 3351).

13. Priority Mail & First-Class Package Service Contract 20 (MC2016-158 and CP2016-229) (Order No. 3414).

14. Priority Mail & First-Class Package Service Contract 23 (MC2016-167 and CP2016-241) (Order No. 3440).

15. Priority Mail Contract 242 (MC2016-203 and CP2016-292) (Order No. 3549).

16. Priority Mail Express & Priority Mail Contract 35 (MC2016-205 and CP2016-294) (Order No. 3550).

17. Priority Mail Contract 243 (MC2016-204 and CP2016-293) (Order No. 3552).

18. First-Class Package Service Contract 64 (MC2016-206 and CP2016-295) (Order No. 3553).

19. Priority Mail & First-Class Package Service Contract 32 (MC2016-209 and CP2016-298) (Order No. 3555).

20. Priority Mail Express & Priority Mail Contract 36 (MC2016-207 and CP2016-296) (Order No. 3557).

21. Priority Mail & First-Class Package Service Contract 34 (MC2016-211 and CP2016-300) (Order No. 3562).

22. Priority Mail Contract 244 (MC2016-212 and CP2016-301) (Order No. 3563).

23. Priority Mail Contract 246 (MC2017-2 and CP2017-2) (Order No. 3570).

24. Priority Mail Contract 247 (MC2017-3 and CP2017-3) (Order No. 3571).

25. Priority Mail Express, Priority Mail & First-Class Package Service Contract 11 (MC2017-4 and CP2017-4) (Order No. 3572).

26. Priority Mail Express & Priority Mail Contract 37 (MC2017-6 and CP2017-12) (Order No. 3583).

27. Priority Mail Contract 248 (MC2017-5 and CP2017-11) (Order No. 3584).

28. Parcel Select Contract 17 (MC2016-200 and CP2016-284) (Order No. 3592).

29. Priority Mail Contract 252 (MC2017-10 and CP2017-25) (Order No. 3599).

30. Priority Mail Contract 253 (MC2017-11 and CP2017-26) (Order No. 3600).

31. Priority Mail Contract 251 (MC2017-9 and CP2017-24) (Order No. 3603).

32. Priority Mail Contract 250 (MC2017-8 and CP2017-23) (Order No. 3605).

33. Priority Mail & Parcel Select Contract 2 (MC2017-13 and CP2017-29) (Order No. 3607).

34. Priority Mail Express Contract 42 (MC2016-208 and CP2016-297) (Order No. 3608).

35. First-Class Package Service Contract 65 (MC2017-14 and CP2017-30) (Order No. 3611).

36. Priority Mail Contract 255 (MC2017-16 and CP2017-32) (Order No. 3613).

37. Priority Mail Contract 254 (MC2017-15 and CP2017-31) (Order No. 3614).

38. First-Class Package Service Contract 66 (MC2017-20 and CP2017-39) (Order No. 3633).

39. Priority Mail Express, Priority Mail & First-Class Package Service Contract 12 (MC2017-21 and CP2017-41) (Order No. 3637).

40. Priority Mail & First-Class Package Service Contract 36 (MC2017-24 and CP2017-44) (Order No. 3644).

41. Priority Mail & First-Class Package Service Contract 37 (MC2017-25 and CP2017-45) (Order No. 3645).

42. Priority Mail Express, Priority Mail & First-Class Package Service Contract 13 (MC2017-22 and CP2017-42) (Order No. 3646).

43. Priority Mail Contract 261 (MC2017-28 and CP2017-53) (Order No. 3658).

44. Priority Mail Contract 259 (MC2017-26 and CP2017-51) (Order No. 3659).

45. Priority Mail Contract 264 (MC2017-31 and CP2017-56) (Order No. 3663).

46. Priority Mail Contract 265 (MC2017-32 and CP2017-57) (Order No. 3667).

47. Priority Mail Express, Priority Mail & First-Class Package Service Contract 14 (MC2017-33 and CP2017-58) (Order No. 3668).

48. First-Class Package Service Contract 67 (MC2017-34 and CP2017-59) (Order No. 3669).

49. Priority Mail & First-Class Package Service Contract 39 (MC2017-36 and CP2017-61) (Order No. 3675).

50. Priority Mail & First-Class Package Service Contract 40 (MC2017-37 and CP2017-62) (Order No. 3678).

51. Priority Mail Express & Priority Mail Contract 38 (MC2017-38 and CP2017-63) (Order No. 3679).

52. First-Class Package Service Contract 69 (MC2017-40 and CP2017-65) (Order No. 3686).

53. Priority Mail Contract 266 (MC2017-41 and CP2017-66) (Order No. 3688).

54. Priority Mail Contract 267 (MC2017-42 and CP2017-67) (Order No. 3689).

55. First-Class Package Service Contract 68 (MC2017-39 and CP2017-64) (Order No. 3691).

56. Priority Mail Contract 269 (MC2017-44 and CP2017-69) (Order No. 3692).

57. Priority Mail Express Contract 44 (MC2017-49 and CP2017-75) (Order No. 3699).

58. Priority Mail & First-Class Package Service Contract 42 (MC2017-56 and CP2017-82) (Order No. 3703).

59. Priority Mail Contract 278 (MC2017-57 and CP2017-83) (Order No. 3708).

60. Priority Mail Contract 280 (MC2017-60 and CP2017-88) (Order No. 3719).

61. Priority Mail Contract 279 (MC2017-59 and CP2017-87) (Order No. 3722).

62. Priority Mail Contract 285 (MC2017-75 and CP2017-102) (Order No. 3739).

63. Priority Mail Express & Priority Mail Contract 43 (MC2017-83 and CP2017-112) (Order No. 3779).

64. First-Class Package Service Contract 77 (MC2017-135 and CP2017-192) (Order No. 3922).

65. Priority Mail Contract 331 (MC2017-152 and CP2017-215) (Order No. 3986).

66. Priority Mail & First-Class Package Service Contract 52 (MC2017-174 and CP2017-275) (Order No. 4083).

67. Priority Mail Contract 363 (MC2017-209 and CP2017-317) (Order No. 4146).

68. Priority Mail & First-Class Package Service Contract 60 (MC2018-12 and CP2018-19) (Order No. 4183).

69. Priority Mail Contract 373 (MC2018-22 and CP2018-44) (Order No. 4229).

70. Priority Mail Contract 380 (MC2018-38 and CP2018-68) (Order No. 4271).

71. First-Class Package Service Contract 90 (MC2018-79 and CP2018-121) (Order No. 4339).

72. Priority Mail Express & First-Class Package Service Contract 2 (MC2018-120 and CP2018-163) (Order No. 4387).

73. Priority Mail Express & Priority Mail Contract 68 (MC2018-169 and CP2018-241) (Order No. 4664).

74. Priority Mail & First-Class Package Service Contract 84 (MC2018-194 and CP2018-272) (Order No. 4733).

75. Priority Mail Contract 468 (MC2019-5 and CP2019-4) (Order No. 4860).

76. Priority Mail Contract 470 (MC2019-7 and CP2019-6) (Order No. 4861).

77. Priority Mail Express & Priority Mail Contract 78 (MC2019-48 and CP2019-52) (Order No. 4914).

78. Priority Mail & First-Class Package Service Contract 91 (MC2019-46 and CP2019-49) (Order No. 4942).

79. Priority Mail Express & Priority Mail Contract 80 (MC2019-50 and CP2019-54) (Order No. 4947).

80. Priority Mail Contract 496 (MC2019-53 and CP2019-57) (Order No. 4952).

81. Priority Mail Contract 501 (MC2019-60 and CP2019-65) (Order No. 4961).

82. Priority Mail Express Contract 69 (MC2019-61 and CP2019-66) (Order No. 4962).

83. Parcel Return Service Contract 12 (MC2019-63 and CP2019-68) (Order No. 4965).

84. Priority Mail Express & Priority Mail Contract 81 (MC2019-66 and CP2019-73) (Order No. 4969).

85. Priority Mail Express & Priority Mail Contract 82 (MC2019-69 and CP2019-74) (Order No. 4970).

86. Priority Mail Contract 508 (MC2019-82 and CP2019-88) (Order No. 5008).

87. Priority Mail Express & Priority Mail Contract 87 (MC2019-90 and CP2019-96) (Order No. 5018).

88. First-Class Package Service Contract 98 (MC2019-92 and CP2019-98) (Order No. 5020).

89. Priority Mail & First-Class Package Service Contract 96 (MC2019-101 and CP2019-109) (Order No. 5029).

90. Priority Mail Express, Priority Mail & First-Class Package Service Contract 54 (MC2019-100 and CP2019-108) (Order No. 5037).

91. Priority Mail Express Contract 73 (MC2019-121 and CP2019-130) (Order No. 5066).

Updated product list. The referenced changes to the competitive product list are incorporated into 39 CFR Appendix B to Subpart A of Part 3020—Competitive Product List.

List of Subjects in 39 CFR Part 3020

Administrative practice and procedure, Postal Service.

For the reasons discussed in the preamble, the Postal Regulatory Commission amends chapter III of title 39 of the Code of Federal Regulations as follows:

PART 3020—PRODUCT LISTS

1. The authority citation for part 3020 continues to read as follows:

Authority: 39 U.S.C. 503; 3622; 3631; 3642; 3682.

2. Revise appendix B to subpart A of part 3020 to read as follows:

Appendix B to Subpart A of Part 3020—Competitive Product List

(An asterisk (*) indicates an organizational class or group, not a Postal Service product.)

Part B—Competitive Products

2000 Competitive Product List

Domestic Products *

Priority Mail Express

Priority Mail

Parcel Select

Parcel Return Service

First-Class Package Service

USPS Retail Ground

International Products *

Outbound International Expedited Services

Inbound Parcel Post (at UPU rates)

Outbound Priority Mail International

International Priority Airmail (IPA)

International Surface Air List (ISAL)

International Direct Sacks—M-Bags

Outbound Single-Piece First-Class Package International Service

Negotiated Service Agreements *

Domestic *

Priority Mail Express Contract 43

Priority Mail Express Contract 46

Priority Mail Express Contract 47

Priority Mail Express Contract 48

Priority Mail Express Contract 51

Priority Mail Express Contract 52

Priority Mail Express Contract 53

Priority Mail Express Contract 54

Priority Mail Express Contract 55

Priority Mail Express Contract 56

Priority Mail Express Contract 57

Priority Mail Express Contract 59

Priority Mail Express Contract 60

Priority Mail Express Contract 61

Priority Mail Express Contract 62

Priority Mail Express Contract 64

Priority Mail Express Contract 65

Priority Mail Express Contract 70

Priority Mail Express Contract 71

Priority Mail Express Contract 74

Priority Mail Express Contract 75

Priority Mail Express Contract 76

Priority Mail Express Contract 77

Priority Mail Express Contract 78

Priority Mail Express Contract 79

Priority Mail Express Contract 80

Parcel Return Service Contract 6

Parcel Return Service Contract 11

Parcel Return Service Contract 13

Parcel Return Service Contract 14

Parcel Return Service Contract 15

Parcel Return Service Contract 16

Priority Mail Contract 77

Priority Mail Contract 78

Priority Mail Contract 80

Priority Mail Contract 125

Priority Mail Contract 150

Priority Mail Contract 203

Priority Mail Contract 230

Priority Mail Contract 231

Priority Mail Contract 234

Priority Mail Contract 236

Priority Mail Contract 237

Priority Mail Contract 249

Priority Mail Contract 257

Priority Mail Contract 258

Priority Mail Contract 263

Priority Mail Contract 270

Priority Mail Contract 271

Priority Mail Contract 272

Priority Mail Contract 273

Priority Mail Contract 274

Priority Mail Contract 276

Priority Mail Contract 277

Priority Mail Contract 281

Priority Mail Contract 282

Priority Mail Contract 283

Priority Mail Contract 286

Priority Mail Contract 287

Priority Mail Contract 288

Priority Mail Contract 290

Priority Mail Contract 292

Priority Mail Contract 293

Priority Mail Contract 295

Priority Mail Contract 297

Priority Mail Contract 298

Priority Mail Contract 299

Priority Mail Contract 303

Priority Mail Contract 305

Priority Mail Contract 307

Priority Mail Contract 308

Priority Mail Contract 310

Priority Mail Contract 311

Priority Mail Contract 312

Priority Mail Contract 313

Priority Mail Contract 314

Priority Mail Contract 316

Priority Mail Contract 317

Priority Mail Contract 318

Priority Mail Contract 319

Priority Mail Contract 320

Priority Mail Contract 321

Priority Mail Contract 322

Priority Mail Contract 323

Priority Mail Contract 325

Priority Mail Contract 326

Priority Mail Contract 327

Priority Mail Contract 328

Priority Mail Contract 329

Priority Mail Contract 330

Priority Mail Contract 333

Priority Mail Contract 334

Priority Mail Contract 335

Priority Mail Contract 336

Priority Mail Contract 337

Priority Mail Contract 338

Priority Mail Contract 339

Priority Mail Contract 340

Priority Mail Contract 341

Priority Mail Contract 342

Priority Mail Contract 343

Priority Mail Contract 344

Priority Mail Contract 347

Priority Mail Contract 348

Priority Mail Contract 349

Priority Mail Contract 351

Priority Mail Contract 352

Priority Mail Contract 353

Priority Mail Contract 354

Priority Mail Contract 355

Priority Mail Contract 356

Priority Mail Contract 357

Priority Mail Contract 358

Priority Mail Contract 359

Priority Mail Contract 360

Priority Mail Contract 361

Priority Mail Contract 362

Priority Mail Contract 364

Priority Mail Contract 365

Priority Mail Contract 367

Priority Mail Contract 368

Priority Mail Contract 370

Priority Mail Contract 371

Priority Mail Contract 372

Priority Mail Contract 374

Priority Mail Contract 375

Priority Mail Contract 376

Priority Mail Contract 377

Priority Mail Contract 378

Priority Mail Contract 381

Priority Mail Contract 382

Priority Mail Contract 383

Priority Mail Contract 384

Priority Mail Contract 386

Priority Mail Contract 389

Priority Mail Contract 390

Priority Mail Contract 391

Priority Mail Contract 394

Priority Mail Contract 395

Priority Mail Contract 396

Priority Mail Contract 397

Priority Mail Contract 398

Priority Mail Contract 399

Priority Mail Contract 400

Priority Mail Contract 401

Priority Mail Contract 402

Priority Mail Contract 403

Priority Mail Contract 404

Priority Mail Contract 405

Priority Mail Contract 406

Priority Mail Contract 408

Priority Mail Contract 410

Priority Mail Contract 411

Priority Mail Contract 413

Priority Mail Contract 415

Priority Mail Contract 416

Priority Mail Contract 418

Priority Mail Contract 421

Priority Mail Contract 422

Priority Mail Contract 423

Priority Mail Contract 424

Priority Mail Contract 425

Priority Mail Contract 427

Priority Mail Contract 428

Priority Mail Contract 430

Priority Mail Contract 431

Priority Mail Contract 434

Priority Mail Contract 437

Priority Mail Contract 438

Priority Mail Contract 439

Priority Mail Contract 440

Priority Mail Contract 442

Priority Mail Contract 444

Priority Mail Contract 445

Priority Mail Contract 447

Priority Mail Contract 448

Priority Mail Contract 450

Priority Mail Contract 451

Priority Mail Contract 452

Priority Mail Contract 455

Priority Mail Contract 456

Priority Mail Contract 457

Priority Mail Contract 458

Priority Mail Contract 462

Priority Mail Contract 463

Priority Mail Contract 464

Priority Mail Contract 465

Priority Mail Contract 466

Priority Mail Contract 469

Priority Mail Contract 473

Priority Mail Contract 474

Priority Mail Contract 475

Priority Mail Contract 476

Priority Mail Contract 478

Priority Mail Contract 479

Priority Mail Contract 480

Priority Mail Contract 483

Priority Mail Contract 486

Priority Mail Contract 487

Priority Mail Contract 488

Priority Mail Contract 489

Priority Mail Contract 490

Priority Mail Contract 491

Priority Mail Contract 492

Priority Mail Contract 494

Priority Mail Contract 495

Priority Mail Contract 497

Priority Mail Contract 498

Priority Mail Contract 499

Priority Mail Contract 500

Priority Mail Contract 502

Priority Mail Contract 503

Priority Mail Contract 504

Priority Mail Contract 505

Priority Mail Contract 506

Priority Mail Contract 507

Priority Mail Contract 509

Priority Mail Contract 510

Priority Mail Contract 511

Priority Mail Contract 512

Priority Mail Contract 513

Priority Mail Contract 514

Priority Mail Contract 515

Priority Mail Contract 516

Priority Mail Contract 517

Priority Mail Contract 518

Priority Mail Contract 519

Priority Mail Contract 520

Priority Mail Contract 521

Priority Mail Contract 522

Priority Mail Contract 523

Priority Mail Contract 524

Priority Mail Contract 525

Priority Mail Contract 526

Priority Mail Contract 527

Priority Mail Contract 528

Priority Mail Contract 529

Priority Mail Contract 530

Priority Mail Contract 531

Priority Mail Contract 532

Priority Mail Contract 533

Priority Mail Contract 534

Priority Mail Contract 535

Priority Mail Contract 536

Priority Mail Contract 537

Priority Mail Contract 538

Priority Mail Contract 539

Priority Mail Contract 540

Priority Mail Contract 541

Priority Mail Contract 542

Priority Mail Contract 543

Priority Mail Contract 544

Priority Mail Contract 545

Priority Mail Contract 546

Priority Mail Contract 547

Priority Mail Contract 548

Priority Mail Contract 549

Priority Mail Contract 550

Priority Mail Contract 551

Priority Mail Contract 552

Priority Mail Contract 553

Priority Mail Contract 554

Priority Mail Contract 555

Priority Mail Contract 556

Priority Mail Contract 557

Priority Mail Contract 558

Priority Mail Contract 559

Priority Mail Contract 560

Priority Mail Contract 561

Priority Mail Contract 562

Priority Mail Contract 563

Priority Mail Contract 564

Priority Mail Contract 565

Priority Mail Contract 566

Priority Mail Contract 567

Priority Mail Contract 568

Priority Mail Contract 569

Priority Mail Contract 570

Priority Mail Contract 571

Priority Mail Contract 572

Priority Mail Contract 573

Priority Mail Contract 574

Priority Mail Contract 575

Priority Mail Contract 576

Priority Mail Contract 577

Priority Mail Contract 578

Priority Mail Contract 579

Priority Mail Contract 580

Priority Mail Contract 581

Priority Mail Contract 582

Priority Mail Express & Priority Mail Contract 12

Priority Mail Express & Priority Mail Contract 13

Priority Mail Express & Priority Mail Contract 39

Priority Mail Express & Priority Mail Contract 41

Priority Mail Express & Priority Mail Contract 42

Priority Mail Express & Priority Mail Contract 44

Priority Mail Express & Priority Mail Contract 45

Priority Mail Express & Priority Mail Contract 47

Priority Mail Express & Priority Mail Contract 48

Priority Mail Express & Priority Mail Contract 51

Priority Mail Express & Priority Mail Contract 53

Priority Mail Express & Priority Mail Contract 54

Priority Mail Express & Priority Mail Contract 55

Priority Mail Express & Priority Mail Contract 56

Priority Mail Express & Priority Mail Contract 57

Priority Mail Express & Priority Mail Contract 59

Priority Mail Express & Priority Mail Contract 62

Priority Mail Express & Priority Mail Contract 63

Priority Mail Express & Priority Mail Contract 64

Priority Mail Express & Priority Mail Contract 65

Priority Mail Express & Priority Mail Contract 66

Priority Mail Express & Priority Mail Contract 67

Priority Mail Express & Priority Mail Contract 69

Priority Mail Express & Priority Mail Contract 70

Priority Mail Express & Priority Mail Contract 71

Priority Mail Express & Priority Mail Contract 72

Priority Mail Express & Priority Mail Contract 73

Priority Mail Express & Priority Mail Contract 74

Priority Mail Express & Priority Mail Contract 75

Priority Mail Express & Priority Mail Contract 77

Priority Mail Express & Priority Mail Contract 79

Priority Mail Express & Priority Mail Contract 83

Priority Mail Express & Priority Mail Contract 84

Priority Mail Express & Priority Mail Contract 85

Priority Mail Express & Priority Mail Contract 86

Priority Mail Express & Priority Mail Contract 88

Priority Mail Express & Priority Mail Contract 89

Priority Mail Express & Priority Mail Contract 90

Priority Mail Express & Priority Mail Contract 91

Priority Mail Express & Priority Mail Contract 92

Priority Mail Express & Priority Mail Contract 93

Priority Mail Express & Priority Mail Contract 94

Priority Mail Express & Priority Mail Contract 95

Priority Mail Express & Priority Mail Contract 96

Priority Mail Express & Priority Mail Contract 97

Priority Mail Express & Priority Mail Contract 98

Priority Mail Express & Priority Mail Contract 99

Priority Mail Express & Priority Mail Contract 100

Priority Mail Express & Priority Mail Contract 101

Priority Mail Express & Priority Mail Contract 102

Priority Mail Express & Priority Mail Contract 103

Priority Mail Express & Priority Mail Contract 104

Priority Mail Express & Priority Mail Contract 105

Priority Mail Express & Priority Mail Contract 106

Priority Mail Express & Priority Mail Contract 107

Priority Mail Express & Priority Mail Contract 108

Priority Mail Express & Priority Mail Contract 109

Parcel Select & Parcel Return Service Contract 3

Parcel Select & Parcel Return Service Contract 6

Parcel Select & Parcel Return Service Contract 7

Parcel Select & Parcel Return Service Contract 8

Parcel Select & Parcel Return Service Contract 9

Parcel Select Contract 9

Parcel Select Contract 19

Parcel Select Contract 20

Parcel Select Contract 22

Parcel Select Contract 25

Parcel Select Contract 26

Parcel Select Contract 27

Parcel Select Contract 28

Parcel Select Contract 29

Parcel Select Contract 32

Parcel Select Contract 34

Parcel Select Contract 35

Parcel Select Contract 36

Priority Mail—Non-Published Rates

Priority Mail—Non-Published Rates 1

First-Class Package Service Contract 45

First-Class Package Service Contract 55

First-Class Package Service Contract 71

First-Class Package Service Contract 72

First-Class Package Service Contract 73

First-Class Package Service Contract 75

First-Class Package Service Contract 76

First-Class Package Service Contract 78

First-Class Package Service Contract 79

First-Class Package Service Contract 81

First-Class Package Service Contract 82

First-Class Package Service Contract 85

First-Class Package Service Contract 87

First-Class Package Service Contract 89

First-Class Package Service Contract 91

First-Class Package Service Contract 92

First-Class Package Service Contract 93

First-Class Package Service Contract 94

First-Class Package Service Contract 95

First-Class Package Service Contract 96

First-Class Package Service Contract 97

First-Class Package Service Contract 99

First-Class Package Service Contract 100

First-Class Package Service Contract 101

First-Class Package Service Contract 102

First-Class Package Service Contract 103

First-Class Package Service Contract 104

First-Class Package Service Contract 105

Priority Mail Express, Priority Mail & First-Class Package Service Contract 15

Priority Mail Express, Priority Mail & First-Class Package Service Contract 16

Priority Mail Express, Priority Mail & First-Class Package Service Contract 17

Priority Mail Express, Priority Mail & First-Class Package Service Contract 18

Priority Mail Express, Priority Mail & First-Class Package Service Contract 19

Priority Mail Express, Priority Mail & First-Class Package Service Contract 20

Priority Mail Express, Priority Mail & First-Class Package Service Contract 21

Priority Mail Express, Priority Mail & First-Class Package Service Contract 23

Priority Mail Express, Priority Mail & First-Class Package Service Contract 24

Priority Mail Express, Priority Mail & First-Class Package Service Contract 25

Priority Mail Express, Priority Mail & First-Class Package Service Contract 26

Priority Mail Express, Priority Mail & First-Class Package Service Contract 27

Priority Mail Express, Priority Mail & First-Class Package Service Contract 28

Priority Mail Express, Priority Mail & First-Class Package Service Contract 29

Priority Mail Express, Priority Mail & First-Class Package Service Contract 30

Priority Mail Express, Priority Mail & First-Class Package Service Contract 31

Priority Mail Express, Priority Mail & First-Class Package Service Contract 32

Priority Mail Express, Priority Mail & First-Class Package Service Contract 35

Priority Mail Express, Priority Mail & First-Class Package Service Contract 36

Priority Mail Express, Priority Mail & First-Class Package Service Contract 37

Priority Mail Express, Priority Mail & First-Class Package Service Contract 38

Priority Mail Express, Priority Mail & First-Class Package Service Contract 39

Priority Mail Express, Priority Mail & First-Class Package Service Contract 40

Priority Mail Express, Priority Mail & First-Class Package Service Contract 42

Priority Mail Express, Priority Mail & First-Class Package Service Contract 43

Priority Mail Express, Priority Mail & First-Class Package Service Contract 44

Priority Mail Express, Priority Mail & First-Class Package Service Contract 45

Priority Mail Express, Priority Mail & First-Class Package Service Contract 46

Priority Mail Express, Priority Mail & First-Class Package Service Contract 47

Priority Mail Express, Priority Mail & First-Class Package Service Contract 48

Priority Mail Express, Priority Mail & First-Class Package Service Contract 50

Priority Mail Express, Priority Mail & First-Class Package Service Contract 51

Priority Mail Express, Priority Mail & First-Class Package Service Contract 52

Priority Mail Express, Priority Mail & First-Class Package Service Contract 53

Priority Mail Express, Priority Mail & First-Class Package Service Contract 55

Priority Mail Express, Priority Mail & First-Class Package Service Contract 56

Priority Mail Express, Priority Mail & First-Class Package Service Contract 57

Priority Mail Express, Priority Mail & First-Class Package Service Contract 58

Priority Mail Express, Priority Mail & First-Class Package Service Contract 59

Priority Mail Express, Priority Mail & First-Class Package Service Contract 60

Priority Mail Express, Priority Mail & First-Class Package Service Contract 61

Priority Mail Express, Priority Mail & First-Class Package Service Contract 62

Priority Mail Express, Priority Mail & First-Class Package Service Contract 63

Priority Mail Express, Priority Mail & First-Class Package Service Contract 64

Priority Mail Express, Priority Mail & First-Class Package Service Contract 65

Priority Mail Express, Priority Mail & First-Class Package Service Contract 66

Priority Mail Express, Priority Mail & First-Class Package Service Contract 67

Priority Mail & First-Class Package Service Contract 9

Priority Mail & First-Class Package Service Contract 24

Priority Mail & First-Class Package Service Contract 35

Priority Mail & First-Class Package Service Contract 38

Priority Mail & First-Class Package Service Contract 43

Priority Mail & First-Class Package Service Contract 44

Priority Mail & First-Class Package Service Contract 45

Priority Mail & First-Class Package Service Contract 47

Priority Mail & First-Class Package Service Contract 48

Priority Mail & First-Class Package Service Contract 49

Priority Mail & First-Class Package Service Contract 50

Priority Mail & First-Class Package Service Contract 51

Priority Mail & First-Class Package Service Contract 53

Priority Mail & First-Class Package Service Contract 54

Priority Mail & First-Class Package Service Contract 55

Priority Mail & First-Class Package Service Contract 56

Priority Mail & First-Class Package Service Contract 57

Priority Mail & First-Class Package Service Contract 58

Priority Mail & First-Class Package Service Contract 59

Priority Mail & First-Class Package Service Contract 61

Priority Mail & First-Class Package Service Contract 62

Priority Mail & First-Class Package Service Contract 63

Priority Mail & First-Class Package Service Contract 64

Priority Mail & First-Class Package Service Contract 67

Priority Mail & First-Class Package Service Contract 69

Priority Mail & First-Class Package Service Contract 70

Priority Mail & First-Class Package Service Contract 71

Priority Mail & First-Class Package Service Contract 72

Priority Mail & First-Class Package Service Contract 73

Priority Mail & First-Class Package Service Contract 74

Priority Mail & First-Class Package Service Contract 75

Priority Mail & First-Class Package Service Contract 76

Priority Mail & First-Class Package Service Contract 77

Priority Mail & First-Class Package Service Contract 78

Priority Mail & First-Class Package Service Contract 79

Priority Mail & First-Class Package Service Contract 80

Priority Mail & First-Class Package Service Contract 81

Priority Mail & First-Class Package Service Contract 82

Priority Mail & First-Class Package Service Contract 83

Priority Mail & First-Class Package Service Contract 85

Priority Mail & First-Class Package Service Contract 86

Priority Mail & First-Class Package Service Contract 87

Priority Mail & First-Class Package Service Contract 88

Priority Mail & First-Class Package Service Contract 89

Priority Mail & First-Class Package Service Contract 90

Priority Mail & First-Class Package Service Contract 92

Priority Mail & First-Class Package Service Contract 93

Priority Mail & First-Class Package Service Contract 94

Priority Mail & First-Class Package Service Contract 95

Priority Mail & First-Class Package Service Contract 97

Priority Mail & First-Class Package Service Contract 98

Priority Mail & First-Class Package Service Contract 99

Priority Mail & First-Class Package Service Contract 100

Priority Mail & First-Class Package Service Contract 101

Priority Mail & First-Class Package Service Contract 102

Priority Mail & First-Class Package Service Contract 103

Priority Mail & First-Class Package Service Contract 104

Priority Mail & First-Class Package Service Contract 105

Priority Mail & First-Class Package Service Contract 106

Priority Mail & First-Class Package Service Contract 107

Priority Mail & First-Class Package Service Contract 108

Priority Mail & First-Class Package Service Contract 109

Priority Mail & First-Class Package Service Contract 110

Priority Mail & First-Class Package Service Contract 111

Priority Mail & First-Class Package Service Contract 112

Priority Mail & First-Class Package Service Contract 113

Priority Mail & First-Class Package Service Contract 114

Priority Mail & First-Class Package Service Contract 115

Priority Mail & First-Class Package Service Contract 116

Priority Mail & First-Class Package Service Contract 117

Priority Mail & First-Class Package Service Contract 118

Priority Mail & First-Class Package Service Contract 119

Priority Mail & First-Class Package Service Contract 120

Priority Mail & First-Class Package Service Contract 121

Priority Mail & First-Class Package Service Contract 122

Priority Mail & First-Class Package Service Contract 123

Priority Mail & First-Class Package Service Contract 124

Priority Mail & First-Class Package Service Contract 125

Priority Mail & First-Class Package Service Contract 126

Priority Mail & First-Class Package Service Contract 127

Priority Mail & First-Class Package Service Contract 128

Priority Mail & First-Class Package Service Contract 129

Priority Mail & First-Class Package Service Contract 130

Priority Mail & First-Class Package Service Contract 131

Priority Mail & First-Class Package Service Contract 132

Priority Mail & First-Class Package Service Contract 133

Priority Mail & First-Class Package Service Contract 134

Priority Mail & First-Class Package Service Contract 135

Priority Mail & First-Class Package Service Contract 136

Priority Mail & First-Class Package Service Contract 137

Priority Mail & First-Class Package Service Contract 138

Priority Mail Express & First-Class Package Service Contract 1

Priority Mail Express & First-Class Package Service Contract 3

Priority Mail Express, Priority Mail, First-Class Package Service & Parcel Select Contract 1

Priority Mail Express, Priority Mail, First-Class Package Service & Parcel Select Contract 2

Priority Mail Express, Priority Mail, First-Class Package Service & Parcel Select Contract 3

Outbound International *

Global Expedited Package Services (GEPS) Contracts

GEPS 3

GEPS 5

GEPS 6

GEPS 7

GEPS 8

GEPS 9

GEPS 10

GEPS 11

Global Bulk Economy (GBE) Contracts

Global Plus Contracts

Global Plus 1C

Global Plus 1D

Global Plus 1E

Global Plus 2C

Global Plus 3

Global Plus 4

Global Plus 5

Global Plus 6

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Global Expedited Package Services (GEPS)—Non-Published Rates 6

Global Expedited Package Services (GEPS)—Non-Published Rates 7

Global Expedited Package Services (GEPS)—Non-Published Rates 8

Global Expedited Package Services (GEPS)—Non-Published Rates 9

Global Expedited Package Services (GEPS)—Non-Published Rates 10

Global Expedited Package Services (GEPS)—Non-Published Rates 11

Global Expedited Package Services (GEPS)—Non-Published Rates 12

Global Expedited Package Services (GEPS)—Non-Published Rates 13

Global Expedited Package Services (GEPS)—Non-Published Rates 14

Priority Mail International Regional Rate Boxes—Non-Published Rates

Outbound Competitive International Merchandise Return Service Agreement with Royal Mail Group, Ltd.

Priority Mail International Regional Rate Boxes Contracts

Priority Mail International Regional Rate Boxes Contracts 1

Competitive International Merchandise Return Service Agreements with Foreign Postal Operators

Competitive International Merchandise Return Service Agreements with Foreign Postal Operators 1

Competitive International Merchandise Return Service Agreements with Foreign Postal Operators 2

Alternative Delivery Provider (ADP) Contracts ADP 1

Alternative Delivery Provider Reseller (ADPR) Contracts ADPR 1

Inbound International *

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Royal Mail Group Inbound Air Parcel Post Agreement

Inbound Competitive Multi-Service Agreements with Foreign Postal Operators

Inbound Competitive Multi-Service Agreements with Foreign Postal Operators 1

Special Services *

Address Enhancement Services

Greeting Cards, Gift Cards, and Stationery

International Ancillary Services

International Money Transfer Service—Outbound

International Money Transfer Service—Inbound

Premium Forwarding Service

Shipping and Mailing Supplies

Post Office Box Service

Competitive Ancillary Services

Nonpostal Services *

Advertising

Licensing of Intellectual Property other than Officially Licensed Retail Products (OLRP)

Mail Service Promotion

Officially Licensed Retail Products (OLRP)

Passport Photo Service

Photocopying Service

Rental, Leasing, Licensing or other Non-Sale Disposition of Tangible Property

Training Facilities and Related Services

USPS Electronic Postmark (EPM) Program

Market Tests *

Erica A. Barker,
Secretary.

[FR Doc. 2020-03014 Filed 2-21-20; 8:45 am]

BILLING CODE 7710-FW-P